DEPARTMENT OF JUSTICE

Antitrust Division

Notice Pursuant to the National Cooperative Research and Production Act of 1993—ANSI Accredited Standards Committee “C119”

Notice is hereby given that, on September 17, 2004, pursuant to section 6(a) of the National Cooperative Research and Production Act of 1993, 15 U.S.C. 4301 et seq. (“the Act”), ANSI Accredited Standards Committee “C119” (“C119 Committee”), by its Secretariat, National Electrical Manufacturers Association (“NEMA”), has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: ANSI Accredited Standards Committee “C119”, Rosslyn, VA. The nature and scope of C119 Committee's standards development activities are: related to electrical connectors for electric utility applications. C119 Committee currently maintains four standards relating to electrical connectors used by the electric utility industry. The standards developed by C119 Committee are published by NEMA.

Dorothy B. Fountain,
Deputy Director of Operations, Antitrust Division.

[FR Doc. 04-27544 Filed 12-15-04; 8:45 am]

BILLING CODE 4410-11-M